NATIONAL AERONAUTICS AND SPACE ADMINISTRATION

[Notice 13-068]

Aerospace Safety Advisory Panel; Meeting

AGENCY: National Aeronautics and Space Administration (NASA).

ACTION: Notice of meeting.

SUMMARY: In accordance with the Federal Advisory Committee Act, Public Law 92-463, as amended, the National Aeronautics and Space Administration announce a forthcoming meeting of the Aerospace Safety Advisory Panel (ASAP).

DATES: Friday, July 12, 2013, 09:00-10:00 a.m., Local Time.

ADDRESSES: NASA's Marshall Space Flight Center, Educator Resource Center, U.S. Space & Rocket Center, Room 206, One Tranquility Base, Huntsville, AL 35805

FOR FURTHER INFORMATION CONTACT: Ms. Harmony Myers, Aerospace Safety Advisory Panel Executive Director, National Aeronautics and Space Administration, Washington, DC 20546, (202) 358-1857.

SUPPLEMENTARY INFORMATION: The Aerospace Safety Advisory Panel will hold its Third Quarterly Meeting for 2013. This discussion is pursuant to carrying out its statutory duties for which the Panel reviews, identifies, evaluates, and advises on those program activities, systems, procedures, and management activities that can contribute to program risk. Priority is given to those programs that involve the safety of human flight. The agenda will include:

• Explorations Systems Development

• Commercial Crew Program

• International Space Station

• Mars Program Technologies and Asteroid Mission Overview

The meeting will be open to the public up to the seating capacity of the room. Seating will be on a first-come basis. Visitors will be requested to sign a visitor's register. Photographs will only be permitted during the first 10 minutes of the meeting.

At the beginning of the meeting, members of the public may make a verbal presentation to the Panel on the subject of safety at NASA, not to exceed 5 minutes in length. To do so, members of the public must contact Ms. Harmony Myers at harmony.r.myers@nasa.gov or at (202) 358-1857 at least 48 hours in advance. Any member of the public is permitted to file a written statement with the Panel at the time of the meeting. Verbal presentations and written comments should be limited to the subject of safety in NASA. It is imperative that the meeting be held on this date to accommodate the scheduling priorities of the key participants.

Patricia D. Rausch,
Advisory Committee Management Officer, National Aeronautics and Space Administration.

[FR Doc. 2013-14588 Filed 6-18-13; 8:45 am]

BILLING CODE 7510-13-P